TENNESSEE VALLEY AUTHORITY

Supplemental Environmental Impact Statement—Natural Resource Plan

AGENCY: Tennessee Valley Authority.

ACTION: Notice of intent.

SUMMARY: The Tennessee Valley Authority (TVA) intends to prepare a supplemental environmental impact statement (EIS) addressing proposed changes to its Natural Resource Plan (NRP). Public comment is invited concerning the scope of the supplemental EIS, including how the plan addresses TVA's management of natural and cultural resources and the environmental issues that should be addressed in the supplemental EIS.

DATES: Comments must be received on or before August 20, 2018. To facilitate the scoping process, TVA will hold public scoping meetings in late July and early August 2018; see https://www.tva.gov/nrp for the dates and locations of the scoping meetings.

ADDRESSES: Written comments should be sent to Matthew Higdon, Tennessee Valley Authority, 400 W Summit Hill Drive #WT11D, Knoxville, Tennessee 37902. Comments may also be emailed to nrp@tva.gov or submitted on the TVA website at: https://www.tva.gov/nrp.

FOR FURTHER INFORMATION CONTACT: For information on the EIS process, contact Matthew Higdon, NEPA Specialist, by email at mshigdon@tva.gov or by phone at (865) 632-8051. For information about the NRP, contact Anthony Summitt by email at adsummitt@tva.gov or by phone at (423) 467-3811.

SUPPLEMENTARY INFORMATION: This notice is provided in accordance with the Council on Environmental Quality's regulations (40 CFR parts 1500 to 1508) and TVA's procedures for implementing the National Environmental Policy Act (NEPA) and Section 106 of the National Historic Preservation Act (NHPA) and its implementing regulations (36 CFR part 800).

Background

TVA is an executive branch, corporate agency and instrumentality of the United States, established by an act of Congress in 1933, to foster the social and economic welfare of the people of the Tennessee Valley region and to promote the proper use and conservation of the region's natural resources. Shortly after its creation, TVA began a dam and reservoir construction program that required the purchase of approximately 1.3 million acres of land for the creation of reservoirs within the Tennessee Valley region. Most of these lands are located underneath the water of the reservoir system or have since been sold by TVA or transferred to other state or federal agencies. Today, approximately 293,000 acres of land along TVA reservoirs are managed by TVA for the benefit of the public. Most of these lands remain undeveloped and have been managed by TVA for natural resource conservation, recreation, and the protection of cultural resources.

In 2011, TVA completed its first Natural Resource Plan to guide its stewardship efforts for managing the waters and public lands of the Tennessee River Valley. The NRP represents TVA's high level strategy for managing its natural resources in the near- and long-term. The purpose of the plan is to integrate the goals of resource management programs, provide for the optimum public benefit, and balance sometimes conflicting resource uses. The NRP also guides TVA in achieving the objectives of its Environmental Policy for a more systematic and integrated approach to natural resource stewardship.

When planning for the 2011 NRP, TVA completed an EIS that described the potential resource management programs and activities, alternative approaches to TVA's resource management efforts, and the environmental impacts of the alternatives. In the 2011 EIS, four alternatives were analyzed: The No Action Alternative, Custodial Management, Flagship Management, and Blended Management. In August 2011, the TVA Board of Directors decided that the Blended Management alternative should be implemented as the agency's plan because the alternative aligns best with TVA's Environmental Policy, focuses on key programs that establish a baseline for future enhanced implementation efforts, and provides flexibility for the use of partnerships, volunteers, and other sources of funding to leverage programs to their full potential while working within resource and staff constraints (75 FR 57100, September 15, 2011).

Proposed Update of the Plan

In the 2011 NRP, TVA committed to reviewing the NRP every five years and updating the plan to ensure it remains relevant and current. In 2016, in advance of the first update of the NRP, TVA's Natural Resources staff began a holistic review of the NRP and determined that, after extensive discussion and consideration, the plan does not completely fulfill the purposes intended when completed in 2011. The 2011 NRP was not all encompassing of Natural Resources programs and by not being inclusive, the NRP was not comprehensive as desired. TVA concluded that the NRP was not fully serving as the guide for business and budget planning as was first envisioned, and the non-comprehensive program coverage has impacted the plan's usefulness to the Natural Resources group as a management guide.

TVA is proposing to update the NRP to improve its efficacy and is initiating an environmental review of proposed changes. TVA proposes changes to the NRP's structure and to the range of programs it identifies. TVA is seeking the public's input in determining the scope of its environmental review of these changes. The proposed update to the NRP would be consistent with the Blended Management alternative approved by the TVA Board of Directors in August 2011. TVA is considering these changes in a supplement to the 2011 EIS.

TVA proposes to update the NRP so that it is a more useful strategic document that outlines expected benefits and objectives for each of TVA's natural resource management programs. TVA proposes to reorganize the plan and its programs into ten new “focus areas” rather than the six resource areas in the 2011 plan. TVA would address additional program efforts in the NRP that were excluded from the current plan, namely: Permitting under Section 26a of the TVA Act and land use agreements; public land protection; nuisance and invasive species management; and ecotourism. TVA has extensive experience in conducting these efforts in the region and proposes to include them in the NRP to ensure that the plan addresses the entire scope of the TVA Natural Resources group's stewardship efforts.

In addition, certain programs described in the 2011 NRP would be regrouped to create focus areas that better reflect the Natural Resources' efforts in order to improve the plan's clarity and usefulness. TVA also proposes to remove some programs from its NRP because these programs are managed better by other entities (e.g., universities, other TVA organizations, non-TVA entities); however, even if a program would be removed from the NRP, TVA may continue to support the management of these programs. Lastly, TVA proposes to add several new programs under the ten focus areas.

TVA proposes to update the NRP by grouping its programs into the following ten focus areas: Land and Habitat Stewardship (Biological Resources in the current NRP); Cultural Resources Management (currently Cultural Resources in the NRP); Water Resources Stewardship (currently Water Resources in the NRP); Public Outreach and Information (currently Public Engagement in the NRP); Reservoir Lands Planning (no change); Recreation (currently Recreation Management in the NRP); Public Land Protection (new); Nuisance and Invasive Species Management (new); Ecotourism (new); and Section 26a and Land Use Agreements (new). More information about the new focus areas and the changes to specific programs can be found at https://www.tva.gov/nrp.

Numerous other changes proposed by TVA are administrative or procedural in nature and are unlikely to impact the environment; these changes will be included in the scope of the supplemental EIS to ensure public disclosure of how the NRP would be amended. For example, TVA is proposing to change how its NRP would be updated and how the public would be made aware of its plan implementation. In the revised NRP, TVA would eliminate the provision of the NRP that calls for periodic (5 year) updates to the plan. Alternatively, TVA proposes to inform the public of its activities and progress by publishing an Annual Report on Natural Resources' stewardship efforts and by improving the information available to the public on TVA's stewardship projects on TVA's web page. TVA would provide multiple avenues for continuous public engagement and input, including through the Public Land Information Center, by incorporating a commenting mechanism into the NRP web page and by piloting region specific focus groups that would provide input regarding local needs and trends in the recreation and natural resource fields.

To complement the strategic guidance that the updated NRP would provide, TVA's Natural Resources group would develop a 3-5 Year Action Plan to provide a tactical approach to implement the specific activities associated with each of the ten focus area programs. TVA anticipates that utilizing a short term implementation strategy (3-5 Year Action Plan) that complements the long term strategic guidance document (the updated NRP) would provide the flexibility necessary to achieve the goals and objectives of the NRP. This approach is intended to ensure that the NRP remains relevant in the long term, since adjustments in the implementation of the NRP (e.g., due to changes such as availability of stewardship funding, new trends in public use and input from the public) would be addressed through the 3-5 Year Action Plan.

TVA would also remove the “measures of success” for each program from the 2011 NRP, which experience has shown were too specific. The updated NRP would identify objectives for each focus area to provide high-level, overarching strategic direction for each area. The objectives for the focus areas align with the 2011 NRP resource area goals and would be substantially consistent with TVA's Blended Management approach analyzed in the 2011 EIS. Instead of “measures of success,” metrics to measure achievement of focus area objectives would be incorporated into the 3-5 Year Action Plan.

Scoping Process

The revised NRP will be considered as an action alternative in the supplemental EIS. TVA invites the public to review the detailed description of its NRP program areas and the revisions to the NRP that is available on the TVA website during the scoping period and to submit comments, questions or suggestions on its proposal. Additional action alternative(s) may be developed based on public input submitted to TVA during the scoping period.

Public scoping is integral to the process for implementing NEPA and ensures that issues are identified early and properly studied; issues of little significance do not consume substantial time and effort; and analysis is thorough and balanced. TVA anticipates that the major environmental resource areas that will be addressed in the supplemental EIS will include water quality, water supply, aquatic and terrestrial ecology, endangered and threatened species, wetlands, prime farmlands, floodplains, recreation, aesthetics including visual resources, land use, historic and archaeological resources and socioeconomic resources.

TVA invites members of the public as well as Federal, state, and local agencies and Native American tribes to comment on the scope of the supplemental EIS. Comments on the scope should be submitted no later than the date given under the DATES section of this notice. Pursuant to the regulations of the Advisory Council on Historic Preservation implementing Section 106 of the NHPA, TVA also solicits comments on the potential of the proposed Plan to affect historic properties. This notice also provides an opportunity under Executive Orders 11990 and 11988 for early public review of the potential for TVA's proposal to affect wetlands and floodplains, respectively. Please note that any comments received, including names and addresses, will become part of the administrative record and will be available for public inspection.

After consideration of the public's input and analyzing the environmental consequences of alternatives, TVA will issue a draft EIS for public review and comment. TVA will notify the public of the draft EIS's availability and plans to hold public meetings during the review period. TVA expects to release the draft EIS in mid 2019 and the final EIS and NRP in early 2020.

Authority: 40 CFR 1501.7.

David Bowling,
Vice President, Land and River Management.

[FR Doc. 2018-15161 Filed 7-13-18; 8:45 am]

BILLING CODE 8120-08-P